DEPARTMENT OF HEALTH AND HUMAN SERVICES

Centers for Disease Control and Prevention

CDC/Health Resources and Services Administration (HRSA) Advisory Committee on HIV and STD Prevention and Treatment

In accordance with section 10(a)(2) of the Federal Advisory Committee Act (Pub. L. 92-463), the CDC announces the following meeting of the aforementioned committee:

Times and Dates:

8 a.m.-5 p.m., May 19, 2009

8 a.m.-3 p.m., May 20, 2009

Place: JW Marriott Buckhead, 3300 Lenox Road, Atlanta, Georgia 30326, Telephone: (404) 262-3344, Fax: (404) 262-8689.

Status: Open to the public, limited only by the space available. The meeting room will accommodate approximately 100 people.

Purpose: This Committee is charged with advising the Director, CDC and the Administrator, HRSA, regarding activities related to prevention and control of HIV/AIDS and other STDs; the support of health care services to persons living with HIV/AIDS; and education of health professionals and the public about HIV/AIDS and other STDs.

Matters To Be Discussed: Agenda items include issues pertaining to: (1) Updates on HIV Testing, Syphilis Elimination and Viral Hepatitis Prevention; (2) Preventing HIV, STD, Hepatitis and TB in Correctional Settings; (3) Update on HIV Surveillance; and (4) Challenges and Opportunities to STD Prevention. Agenda items are subject to change as priorities dictate.

Contact Person for More Information: Margie Scott-Cseh, Committee Management Specialist, CDC, Strategic Business Unit, 1600 Clifton Road, NE., Mailstop E-07, Atlanta, Georgia 30333, Telephone: (404) 639-8317, Fax: (404) 639-8600, E-mail: zkr7@cdc.gov.

The Director, Management Analysis and Services Office, has been delegated the authority to sign Federal Register Notices pertaining to announcements of meetings and other committee management activities, for both the CDC and the Agency for Toxic Substances and Disease Registry.

Dated: April 3, 2009.
Elaine L. Baker,
Director, Management Analysis and Services Office, Centers for Disease Control and Prevention.

[FR Doc. E9-8071 Filed 4-8-09; 8:45 am]

BILLING CODE 4163-18-P